DEPARTMENT OF HOMELAND SECURITY

Coast Guard

33 CFR Part 100

[USCG-2009-0816]

Notice of Enforcement of Regulation

AGENCY: Coast Guard, DHS.

ACTION: Notice of enforcement of regulation.

SUMMARY: The Coast Guard will enforce the special local regulations in the navigable waters of San Francisco Bay for the annual U.S. Navy and City of San Francisco sponsored Fleet Week Parade of Navy Ships, Blue Angels Flight Demonstrations, and Ship Tours to be held from October 8, 2009 through October 12, 2009. This action is necessary to ensure the safety of event participants and spectators. During the enforcement period, no persons or vessels may enter the regulated area without permission of the Captain of the Port (COTP) or his designated representative.

DATES: The regulations in 33 CFR 100.1105(b)(2), regulated area “Bravo” for the U.S. Navy Blue Angels Activities, will be enforced from 12:30 p.m. to 5 p.m. on October 8, 2009 through October 11, 2009. If the U.S. Navy Blue Angels Activities are delayed by inclement weather, the regulation will also be enforced on October 12, 2009, from 12:30 p.m. to 5 p.m. The regulations in 33 CFR 100.1105(b)(1), regulated area “Alpha” for Navy Parade of Ships, will be enforced from 10:30 a.m. to 1 p.m. on October 10, 2009.

FOR FURTHER INFORMATION CONTACT: Lieutenant Junior Grade Simone Mausz, Waterways Safety Branch, U.S. Coast Guard Sector San Francisco, at (415) 399-7443; e-mail simone.mausz@uscg.mil, or the Sector San Francisco Command Center, at (415) 399-3547.

SUPPLEMENTARY INFORMATION: The Coast Guard will enforce the special local regulation for the annual San Francisco Bay Navy Fleet Week Parade of Ships and Blue Angels Demonstration in 33 CFR 100.1105; the Navy Parade of Ships will be enforced from 10:30 a.m. to 1 p.m. on October 10, 2009; and the U.S. Navy Blue Angels Activities will be enforced from 12:30 p.m. to 5 p.m. on October 8, 2009 through October 12, 2009. If the U.S. Navy Blue Angels Activities are delayed by inclement weather, the regulation will also be enforced on October 12, 2009, from 12:30 p.m. to 5 p.m. These regulations can also be found in the October 1, 1993, issue of the Federal Register 58 FR 51242. Under the provisions of 33 CFR 100.1105 a vessel may not enter the regulated area, unless it receives permission from the COTP. Additionally, no person or vessel may enter or remain within 500 yards ahead of the lead Navy parade vessel, within 200 yards astern of the last parade vessel, and within 200 yards on either side of all parade vessels. No person or vessel shall anchor, block, loiter in, or impede the transit of ship parade participants or official patrol vessels. When hailed by U.S. Coast Guard patrol personnel by siren, radio, flashing light, or other means, a person or vessel shall come to an immediate stop. Persons or vessels shall comply with all directions given. The Coast Guard may be assisted by other Federal, State, or local law enforcement agencies in enforcing this regulation.

This notice is issued under authority of 33 CFR 100.1105 and 5 U.S.C. 552(a). In addition to this notice in the Federal Register, the Coast Guard will provide the maritime community with extensive advance notification of this enforcement period via the Local Notice to Mariners, and Broadcast Notice to Mariners.

Dated: September 11, 2009.
P.M. Gugg,
Captain, U.S. Coast Guard, Captain of the Port, San Francisco.

[FR Doc. E9-24319 Filed 10-7-09; 8:45 am]

BILLING CODE 4910-15-P